DEPARTMENT OF COMMERCE

International Trade Administration

[C-570-995]

Grain-Oriented Electrical Steel From the People's Republic of China: Postponement of Preliminary Determination in the Countervailing Duty Investigation

AGENCY: Enforcement and Compliance, formerly Import Administration, International Trade Administration, Department of Commerce.

FOR FURTHER INFORMATION CONTACT: Yasmin Nair at (202) 482-3813 or Angelica Mendoza at (202) 482-3019, AD/CVD Operations, Office VI, Enforcement and Compliance, International Trade Administration, Department of Commerce, 14th Street and Constitution Avenue NW., Washington, DC 20230.

SUPPLEMENTARY INFORMATION:

Background

On October 24, 2013, the Department of Commerce (the Department) initiated a countervailing duty investigation on grain-oriented electrical steel (GOES) from the People's Republic of China (PRC).¹ Currently, the preliminary determination is due no later than December 28, 2013.

¹ See Grain-Oriented Electrical Steel from the People's Republic of China: Initiation of Countervailing Duty Investigation, 78 FR 65265 (October 31, 2013).

Postponement of the Preliminary Determination

Section 703(b)(1) of the Tariff Act of 1930, as amended (the Act), requires the Department to issue the preliminary determination in a countervailing duty investigation within 65 days after the date on which the Department initiated the investigation. However, if the petitioner makes a timely request for an extension in accordance with 19 CFR 351.205(e), section 703(c)(1)(A) of the Act allows the Department to postpone the preliminary determination until no later than 130 days after the date on which the Department initiated the investigation.

On December 2, 2013, the petitioners ² submitted a timely request pursuant to section 733(c)(1)(A) of the Act and 19 CFR 351.205(e) to postpone the preliminary determination.³ Therefore, in accordance with section 703(c)(1)(A) of the Act, we are fully extending the due date for the preliminary determination to not later than 130 days after the day on which the investigation was initiated. As a result, the deadline for completion of the preliminary determination is now March 3, 2014.

² AK Steel Corporation (AK Steel), Allegheny Ludlum, LLC (Allegheny Ludlum), as well as the United Steelworkers, which represents employees of Allegheny Ludlum that are engaged in the production of GOES in the United States (collectively, the petitioners).

³ See Letter from the Petitioners, entitled “Investigation of Grain-Oriented Electrical Steel from the People's Republic of China: Request to Postpone Preliminary Determination,” dated December 3, 2013.

This notice is issued and published pursuant to section 703(c)(2) of the Act and 19 CFR 351.205(f)(1).

Dated: December 4, 2013.
Paul Piquado,
Assistant Secretary for Enforcement and Compliance.

[FR Doc. 2013-29590 Filed 12-10-13; 8:45 am]

BILLING CODE 3510-DS-P